NUCLEAR REGULATORY COMMISSION

[Docket Nos. 50-220 AND 50-410]

Constellation Energy Group, Nine Mile Point Nuclear Station, Units 1 and 2; Notice of Receipt and Availability of Application for Renewal of Facility Operating License Nos. DPR-63 and NPF-69 for an Additional 20-Year Period

The U.S. Nuclear Regulatory Commission (NRC or Commission) has received an application, dated May 26, 2004, from Constellation Energy Group, filed pursuant to section 103 (Operating License Numbers DPR-63 and NPF-69) of the Atomic Energy Act of 1954, as amended, and 10 CFR part 54, to renew the operating licenses for the Nine Mile Point Nuclear Station, Units 1 and 2, respectively. Renewal of the licenses would authorize the applicant to operate each facility for an additional 20-year period beyond the period specified in the respective current operating licenses. The current operating license for Nine Mile Point Unit 1 (DRP-63) expires on August 22, 2009, and the current operating license for Nine Mile Point Unit 2 (NPF-69) expires on October 31, 2026. The Nine Mile Point Nuclear Station, Units 1 and 2 are boiling water reactors designed by General Electric. Both units are located near Lycoming, New York. The acceptability of the tendered application for docketing, and other matters including an opportunity to request a hearing, will be the subject of subsequent Federal Register notices.

Copies of the application are available for public inspection at the Commission's Public Document Room (PDR), located at One White Flint North, 11555 Rockville Pike (first floor), Rockville, Maryland 20582 or electronically from the NRC's Agencywide Documents Access and Management System (ADAMS) Public Electronic Reading Room under Accession Number ML041490211. The ADAMS Public Electronic Reading Room is accessible from the NRC Web site at http://www.nrc.gov/reading-rm/adams.html. In addition, the application is available on the NRC Web page at http://www.nrc.gov/reactors/operating/licensing/renewal/applications.html, while the application is under review. Persons who do not have access to ADAMS or who encounter problems in accessing the documents located in ADAMS should contact the NRC's PDR Reference staff at 1-800-397-4209, or 301-45-4737, or by e-mail to pdr@nrc.gov.

A copy of the license renewal application for the Nine Mile Point Nuclear Station, Units 1 and 2, is also available to local residents near the Nine Mile Point Nuclear Station at the Penfield Library (Selective Depository), Reference and Documents Department, State University of New York, Oswego, New York 13126.

Dated in Rockville, Maryland, this 1st day of June, 2004.
For the Nuclear Regulatory Commission.
Pao-Tsin Kuo,
Program Director, License Renewal and Environmental Impacts Program, Division of Regulatory Improvement Programs, Office of Nuclear Reactor Regulation.

[FR Doc. 04-12863 Filed 6-7-04; 8:45 am]

BILLING CODE 7590-01-P